ENVIRONMENTAL PROTECTION AGENCY

40 CFR Part 50

[EPA-HQ-OAR-2005-0159; FRL-8165-9]

RIN 2060-AN40

Proposed Rule on the Treatment of Data Influenced by Exceptional Events; Correction

AGENCY: Environmental Protection Agency (EPA).

ACTION: Proposed rule; correction.

SUMMARY: This document makes a minor correction to the regulatory language for the proposed rule entitled “Treatment of Data Influenced by Exceptional Events.” The proposed rule was initially published in the Federal Register on March 10, 2006.

FOR FURTHER INFORMATION CONTACT: For questions regarding the proposed rulemaking, contact Mr. Larry Wallace, U.S. Environmental Protection Agency, Office of Air Quality Planning and Standards, Mail Code C539-02, Research Triangle Park, NC 27711, phone number (919) 541-0906 or by e-mail at: wallace.larry@epa.gov.

Correction

This document corrects § 50.1, paragraph (j) to remove the reference to 40 CFR 50.13 and replace it with a reference to 40 CFR 50.14. In the proposed rule for “The Treatment of Data Influenced by Exceptional Events”, 71 FR 12592, March 10, 2006, beginning on page 12608, column two, make the following correction under the section entitled “Part 50—National Primary And Secondary Ambient Air quality Standards.” Under § 50.1 entitled “Definitions”, revise paragraph (j) to read as follows:

PART 50—NATIONAL PRIMARY AND SECONDARY AMBIENT AIR QUALITY STANDARDS

1. The authority citation for part 50 continues to read as follows:

Authority: 42 U.S.C. 7401, et seq.

2. Revise paragraph (j) to read as follows:

§ 50.1 Definitions.

* * * * *

(j) Exceptional event means an event that affects air quality; is not reasonably controllable or preventable; is a natural event or an event caused by human activity that is unlikely to recur at a particular location; and is determined by the Administrator in accordance with 40 CFR 50.14 to be an exceptional event; it does not include stagnation of air masses or meteorological inversions; a meteorological event involving high temperatures or lack of precipitation; or air pollution relating to source noncompliance.

* * * * *

Dated: April 26, 2006.
Jeffrey Clark,
Acting Director, Office of Air Quality Planning and Standards.

[FR Doc. E6-6753 Filed 5-3-06; 8:45 am]

BILLING CODE 6560-50-P